NATIONAL CREDIT UNION ADMINISTRATION

12 CFR Parts 701, 708a, and 708b

Fiduciary Duties at Federal Credit Unions; Mergers and Conversions of Insured Credit Unions; Correction

AGENCY: National Credit Union Administration.

ACTION: Notice of proposed rulemaking; correction.

SUMMARY: This document corrects the preamble to a proposed rule published in the Federal Register of March 29, 2010, regarding fiduciary duties at Federal credit unions and mergers and conversions of insured credit unions. The proposed rule as published included an incorrect address for Web site comments and an incorrect subject line for e-mail comments in the ADDRESSES section of the preamble.

FOR FURTHER INFORMATION CONTACT: Paul Peterson, Director, Applications Section, Office of General Counsel; Elizabeth Wirick, Staff Attorney, Office of General Counsel; or Jacqueline Lussier, Staff Attorney, Office of General Counsel, at the above address or telephone (703) 518-6540.

Correction

In proposed rule FR Doc. 2010-6439, beginning on page 15574 in the issue of March 29, 2010, make the following corrections in the Addresses section.

1. On page 15574, in the first column, replace the bulleted paragraph headed “NCUA Web site:” with the following:

“NCUA Web site: http://www.ncua.gov/Resources/RegulationsOpinionsLaws/ProposedRegulations.aspx. Follow the instructions for submitting comments.”

2. On page 15574, in the first column, replace the bulleted paragraph headed “E-mail:” with the following:

“E-mail: Address to regcomments@ncua.gov. Include “[Your name] Comments on Notice of Proposed Rulemaking (Fiduciary Duties at Federal Credit Unions; Mergers and Conversions of Insured Credit Unions) in the e-mail subject line.”

Dated: March 31, 2010.
Mary Rupp,
Secretary of the Board.

[FR Doc. 2010-7655 Filed 4-2-10; 8:45 am]

BILLING CODE 7535-01-P